DEPARTMENT OF TRANSPORTATION

National Highway Traffic Safety Administration

49 CFR Part 531

[Docket No. NHTSA-2006-25593]

Exemptions From Average Fuel Economy Standards; Passenger Automobile Average Fuel Economy Standards

AGENCY: National Highway Traffic Safety Administration (NHTSA), Department of Transportation (DOT).

ACTION: Final decision to grant exemption.

SUMMARY: This final decision responds to a petition filed by Spyker Automobielen B.V. (Spyker) requesting that it be exempted from the generally applicable average fuel economy standard of 27.5 miles per gallon (mpg) for model years 2006 and 2007, and that, for Spyker, lower alternative standards be established. In this document, NHTSA establishes an alternative average fuel economy standard for Spyker of 18.9 mpg for MYs 2006 and 2007.

DATES: Effective Date: June 21, 2007.

This exemption and the alternative standards apply to Spyker for MYs 2006 and 2007.

Petitions for reconsideration: Petitions for reconsideration must be received no later than June 21, 2007.

ADDRESSES: You may submit comments by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Request for Comments heading of the Supplementary Information section of this document. Note that all comments received will be posted without change to http://dms.dot.gov, including any personal information provided. Please see the Privacy Act heading under Rulemaking Analyses and Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: For technical issues, contact Ken Katz, Lead Engineer, Fuel Economy Division, Office of International Vehicle, Fuel Economy, and Consumer Standards, at (202) 366-0846, facsimile (202) 493-2290, electronic mail kkatz@nhtsa.dot.gov. For legal issues, contact Stephen Wood of the Office of the Chief Counsel, at (202) 366-2992.

SUPPLEMENTARY INFORMATION:

Statutory Background

Pursuant to 49 U.S.C. section 32902(d), NHTSA may exempt a low volume manufacturer of passenger automobiles from the generally applicable average fuel economy standards if NHTSA concludes that those standards are more stringent than the maximum feasible average fuel economy for that manufacturer and if NHTSA establishes an alternative standard for that manufacturer at its maximum feasible level. Under the statute, a low volume manufacturer is one that manufactured (worldwide) fewer than 10,000 passenger automobiles in the second model year before the model year for which the exemption is sought (the affected model year) and that will manufacture fewer than 10,000 passenger automobiles in the affected model year. In determining the maximum feasible average fuel economy, the agency is required under 49 U.S.C. 32902(f) to consider:

(1) Technological feasibility.

(2) Economic practicability.

(3) The effect of other Federal motor vehicle standards on fuel economy, and

(4) The need of the United States to conserve energy.

The statute permits NHTSA to establish alternative average fuel economy standards applicable to exempted low volume manufacturers in one of three ways: (1) A separate standard for each exempted manufacturer; (2) a separate average fuel economy standard applicable to each class of exempted automobiles (classes would be based on design, size, price, or other factors); or (3) a single standard for all exempted manufacturers.

Proposed Decision and Public Comment

This final decision was preceded by a proposal announcing the agency's tentative conclusion that Spyker should be exempted from the generally applicable MY 2006 and 2007 passenger automobile average fuel economy of 27.5 mpg and that alternative standards of 18.9 mpg for MYs 2006 and 2007 be established for Spyker. (71 FR 49407; August 23, 2006). The agency received only one comment, from a Ms. Barb Sachau, who argued that all vehicles should get higher gas mileage and that the exemption for Spyker should not be granted unless Spyker's vehicles were able to obtain 100 mpg.

NHTSA has decided not to adopt Ms. Sachau's recommendation. NHTSA's proposed decision presented several reasons why it would not be technologically feasible or economically practicable for Spyker to improve the fuel economy of its MY 2006 and 2007 vehicles above an average of 18.9 mpg. Ms. Sachau did not refute the agency's reasoning or provide a technical evaluation of how a standard of 100 mpg for MYs 2006 and 2007 would be technologically feasible or economically practicable for Spyker. Thus, the agency has no basis to adopt Ms. Sachau's recommendation.

NHTSA Final Determination

Therefore, the agency is adopting the tentative conclusions set forth in the proposed decision as its final conclusions, for the reasons set forth in the proposed decision. Based on these conclusions, the maximum average fuel economy for Spyker is 18.9 mpg for MYs 2006 and 2007. NHTSA has determined that other Federal motor vehicle standards will not affect achievable fuel economy beyond the extent considered in the proposed decision and that the national effort to conserve energy will not be affected by granting this exemption. NHTSA hereby exempts Spyker from the generally applicable MY 2006 and 2007 passenger automobile average fuel economy of 27.5 mpg and establishes an alternative standard of 18.9 mpg for MYs 2006 and 2007 for Spyker.

Regulatory Impact Analyses

NHTSA has analyzed this decision and determined that neither Executive Order 12866 nor the Department of Transportation's regulatory policies and procedures apply. Under Executive Order 12866, the decision would not establish a “rule,” which is defined in the Executive Order as “an agency statement of general applicability and future effect.” Since this decision would apply only to Spyker, as discussed in this notice, it is not a “rule” under the definition. Under DOT regulatory policies and procedures, the decision is not a “significant regulation.” If Departmental policies and procedures were applicable, the agency would have determined that this decision is not significant. The principal impact of this decision is that the exempted company will not be required to pay civil penalties if its maximum feasible average fuel economy were achieved, and that purchasers of those vehicles would not have to bear the burden of those civil penalties in the form of higher prices. Since this decision sets an alternative standard at the level determined to be the maximum feasible for Spyker for MYs 2006 and 2007, no fuel would be saved by establishing a higher alternative standard.

NHTSA finds in the Section on “The Need of the United States to Conserve Energy” that because of the small size of the Spyker fleet, that incremental usage of gasoline by Spyker's customers would not affect the United States' need to conserve gasoline. Spyker plans to import a maximum of 112 vehicles to the U.S. market by MY 2007. Given that over 8,350,000 passenger cars were produced for sale in the U.S. market in MY 2006, Spyker's importation of these vehicles would amount to .001% of the U.S. market. Thus, the impact for the public at large is minimal.

The agency has also considered the environmental implications of this decision in accordance with the National Environmental Policy Act (NEPA) and determined that it does not significantly affect the human environment. Regardless of the fuel economy of the exempted vehicles, they must pass the emissions standards which measure the amount of emissions per mile traveled. Thus, the quality of the air is not affected by the alternative standards. Further, since the exempted passenger automobiles cannot achieve better fuel economy than provided, the decision does not affect the amount of fuel used.

List of Subjects in 49 CFR Part 531

Energy conservation, Gasoline, Imports, Motor Vehicles.

In consideration of the foregoing, 49 CFR part 531 is amended as follows:

PART 531—[AMENDED]

1. The authority citation for part 531 is revised to read as follows:

Authority: 49 U.S.C. 32902, delegation of authority at 49 CFR 1.50.

2. Section 531.5 is amended by adding paragraph (b) (15) to read as follows:

§ 531.5 Fuel economy standards.

* * * * *

(b) * * *

(15) Spyker Automobielen B.V.

Average Fuel Economy Standard
Model year | Miles per gallon
2006 | 18.9
2007 | 18.9

Issued on: May 17, 2007.
Stephen R. Kratzke,
Associate Administrator for Rulemaking.

[FR Doc. E7-9867 Filed 5-21-07; 8:45 am]

BILLING CODE 4910-59-P